SMALL BUSINESS ADMINISTRATION

13 CFR Part 126

RIN 3245-AF31

HUBZone Program; Corrections

AGENCY: U.S. Small Business Administration (SBA).

ACTION: Correcting amendments.

SUMMARY: The U.S. Small Business Administration (SBA) is correcting an improper citation within the interim rule that appeared in the Federal Register on August 30, 2005, which amends SBA's HUBZone program regulations.

DATES: Effective October 11, 2005.

FOR FURTHER INFORMATION CONTACT: Michael McHale, Associate Administrator, HUBZone Program, at (202) 205-6731 or by e-mail at: michael.mchale@sba.gov.

SUPPLEMENTARY INFORMATION:

Background

On August 30, 2005, at 79 FR 51243, the SBA published an interim final rule amending SBA's HUBZone, 8(a) Business Development, Government Contracting and Size Standard regulations. This rule implemented provisions of the Small Business Act including the Consolidated Appropriations Act, 2005, specifically, Subtitle E of Division K entitled the Small Business Reauthorization and Manufacturing Assistance Act of 2004.

Need for Correction

Since publication, SBA has discovered that this interim rule inadvertently stated SBA's intent to revise § 126.306 (found at 70 FR 51250) when it should have cited specifically to § 126.306(a). SBA intended to revise only subsection (a) leaving the other subsections unchanged.

List of Subjects in 13 CFR Part 126

Administrative practice and procedure, Government procurement, Small businesses.

Accordingly, 13 CFR part 126 is corrected by making the following correcting amendments:

PART 126—HUBZONE PROGRAM

1. The authority citation for part 126 continues to read as follows:

Authority: 15 U.S.C. 632(a), 632(j), 632(p) and 657a.

2. Revise the first and last sentences of § 126.306(a) as follows:

§ 126.306 How will SBA process this certification?

(a) The AA/HUB or designee is authorized to approve or decline certifications. * * * The decision of the AA/HUB or designee is the final agency decision.

* * * * *

Dated: September 30, 2005.
Allegra McCullough,
Associate Deputy Administrator/Office of Government Contracting and Business Development.

[FR Doc. 05-20188 Filed 10-7-05; 8:45 am]

BILLING CODE 8025-01-P